DEPARTMENT OF DEFENSE

Department of the Army

Availability for Non-Exclusive, Exclusive, or Partially Exclusive Licensing of U.S. Provisional Patent Application Concerning Treatment of the CNS for Status Epilepticus Due to Organophosphate Exposure

AGENCY: Department of the Army, DoD.

ACTION: Notice.

SUMMARY: Announcement is made of the availability for licensing of the invention set forth in U.S. Provisional Patent Application Serial No. 61/104,311 entitled “ * * * Treatment of the CNS for Status Epilepticus Due to Organophosphate Exposure,” filed October 10, 2008. The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The invention is a method of post exposure treatment for chemical warfare nerve agent or organophosphate induced seizure/status epilepticus and neuropathology. The method of treatment utilizes a specific blood-brain barrier penetrating oxime. The administration of this oxime initiates the reactivation of the central nervous system cholinesterases (AChE and BChE) for pesticide and OP induced central nervous system (and peripherally) inhibited AChE.

Brenda S. Bowen,
Army Federal Register Liaison Officer.

[FR Doc. E9-2034 Filed 1-29-09; 8:45 am]

BILLING CODE 3710-08-P